NATIONAL TRANSPORTATION SAFETY BOARD

Sunshine Act Meeting

TIME AND DATE: 9:30 a.m., Tuesday, December 13, 2011.

PLACE: NTSB Conference Center, 429 L'Enfant Plaza SW., Washington, DC 20594.

STATUS: The ONE item is open to the public.

MATTER TO BE CONSIDERED:

8245A Highway Accident Report—Multivehicle Collision, Interstate 44 Eastbound, Gray Summit, Missouri, August 5, 2010

News Media Contact: Telephone: (202) 314-6100.

The press and public may enter the NTSB Conference Center one hour prior to the meeting for set up and seating.

Individuals requesting specific accommodations should contact Rochelle Hall at (202) 314-6305 by Friday, December 9, 2011.

The public may view the meeting via a live or archived webcast by accessing a link under “News & Events” on the NTSB home page at http://www.ntsb.gov.

FOR MORE INFORMATION CONTACT: Candi Bing, (202) 314-6403 or by email at bingc@ntsb.gov.

Dated: Friday, November 25, 2011.
Candi R. Bing,
Federal Register Liaison Officer.

[FR Doc. 2011-30842 Filed 11-25-11; 4:15 pm]

BILLING CODE 7533-01-P